DELAWARE RIVER BASIN COMMISSION

Notice of Commission Meeting and Public Hearing

Notice is hereby given that the Delaware River Basin Commission will hold an informal conference followed by a public hearing on Wednesday, January 26, 2000. The hearing will be part of the Commission's regular business meeting. Both the conference and business meeting are open to the public and will be held in the Goddard Conference Room of the Commission's offices at 25 State Police Drive, West Trenton, New Jersey.

The conference among the Commissioners and staff will begin at 10:00 a.m. and will include a report on the agency's budget for 2001; a discussion of the Basin comprehensive planning process; an update on the U.S. Army Corps of Engineers proposal for undertaking projects jointly with the Commission; a status report on progress toward an agreement between the Army Corps and the Commission for storage at F.E. Walter Reservoir; a report on the status of a new basinwide flood coordination initiative; and a discussion of plans for a two-day Commission meeting in Reading, Pennsylvania in March.

In addition to the dockets listed below, which are scheduled for public hearing, the Commission will address the following at its 1:00 p.m. business meeting: minutes of the December 8, 1999 business meeting; announcements; report on Basin hydrologic conditions; reports by the Executive Director and General Counsel; and public dialogue. The Commission also will conduct public hearings and consider a resolution to adopt the FY 2001 Budget and the 2000 Water Resources Program. It will consider additional resolutions to: authorize the Executive Director to contract with Water Resources Management, Inc. for a flow needs study for the Delaware River and major tributaries; and control toxic pollutants from point sources discharging to the Delaware River Estuary.

The dockets scheduled for public hearing will be as follows:

1. Philadelphia Suburban Water Company D-98-11 CP. An application to withdraw up to 4.0 million gallons per day (mgd) from East Branch Brandywine Creek for public water supply when stream flow exceeds 25 percent of the average daily flow and is greater than 90 mgd for the Brandywine River at Chadds Ford. The applicant proposes to serve East Brandywine and West Brandywine Townships, and potentially, Wallace Township, all in Chester County, Pennsylvania. The intake will be situated on the east bank of the East Branch Brandywine Creek just south of Marshall Road in Wallace Township. On an annual average use basis, withdrawal is expected to average approximately 0.76 mgd. When available, the raw water will be conveyed for storage in a nearby abandoned quarry (known as Cornog Quarry) with an estimated storage capacity of approximately 100 million gallons. Withdrawals ranging from 0.5 mgd to 1.0 mgd will then be made from the quarry, treated by a proposed new filter plant, and distributed to the project service area.

2. Upper Moreland-Hatboro Joint Sewer Authority D-98-48 CP. A project to rerate the applicant's existing sewage treatment plant (STP) from an annual average 7.0 mgd flow to 7.173 mgd; the maximum monthly flow rate will be 9.08 mgd. The additional capacity is needed due to growth within the existing service area of the Borough of Hatboro and portions of Horsham, Upper Dublin and Upper Moreland Townships, Montgomery County, Pennsylvania, and a portion of Warminster Township, Bucks County, Pennsylvania. The STP will continue to provide advanced secondary treatment and ultraviolet disinfection prior to discharge via the existing outfall to Pennypack Creek near Terwood Road in Upper Moreland Township, Montgomery County, Pennsylvania.

3. Reichhold, Inc. D-99-32. An application for approval of a ground water withdrawal project to supply up to 5.4 million gallons (mg)/30 days of water to the applicant's chemical manufacturing facility from new Well No. 37 in the Cheswold Aquifer, and to limit the withdrawal from all wells to 17 mg/30 days. The project is located in Kent County, Delaware.

4. Gilbertsville Golf Club, Inc. D-99-47. An application for approval of a ground water withdrawal project to supply up to 8.1 mg/30 days of water for irrigation of the applicant's golf course from new Well No. PW-2 in the Brunswick Formation, and to limit the withdrawal from all wells to 12.0 mg/30 days. The project is located in New Hanover Township, Montgomery County in the Southeastern Pennsylvania Ground Water Protected Area.

5. Liberty Electric Power, LLC D-99-61. An application to construct a nominal 500 megawatt natural gas-fired electric power plant to be located on a 25.5 acre site between Route 291 and the Amtrak/Septa railroad tracks in Eddystone Borough, Delaware County, Pennsylvania. The power generated will primarily supply the Pennsylvania-Jersey-Maryland grid. The Philadelphia Suburban Water Company will supply up to 6 mgd of water to the facility; and the applicant projects up to 4.7 mgd will be consumed. Approximately 1.3 mgd of process and sanitary wastewater will be conveyed to the DELCORA sewerage system which discharges to the Delaware River in Water Quality Zone 4.

6. Kendal Corporation D-99-68. An application to upgrade and expand the applicant's existing 0.07 mgd secondary treatment STP to provide tertiary treatment of 0.125 mgd to four retirement communities in Kennett and Pennsbury Townships, Chester County, Pennsylvania. Effluent will continue to be applied to the applicant's existing nine-acre spray field and a proposed additional spray irrigation site located approximately one-quarter mile east of State Routes 1 and 52 in Kennett Township. However, during the months of November through April, effluent will be discharged to an unnamed tributary of Bennetts Run in the Brandywine Creek watershed.

7. Philadelphia Suburban Water Company D-99-69 CP. An application to transfer up to 9.5 mgd of potable water to the applicant's public water distribution system via an interconnection with the City of Philadelphia Water Department. The transfer will enable the applicant to provide an additional source of water to serve projected demand in its Southern Division service area. The proposed interconnection will be located at the Philadelphia-Delaware County border off the Interstate 95 and State Route 291 interchange near the Philadelphia International Airport.

Documents relating to these items may be examined at the Commission's offices. Preliminary dockets are available in single copies upon request. Please contact Thomas L. Brand at (609) 883-9500 ext. 221 concerning docket-related questions. Persons wishing to testify at this hearing are requested to register with the Secretary at (609) 883-9500 ext. 203 prior to the hearing.

Individuals in need of an accommodation as provided for in the Americans With Disabilities Act who wish to attend the hearing should contact the Secretary, Pamela M. Bush, at (609) 883-9500 ext. 203 or the New Jersey Relay Service at 1-800-852-7899 (TTY) to discuss how the Commission may accommodate your needs.

Dated: January 11, 2000.
Pamela M. Bush,
Secretary.

[FR Doc. 00-1586 Filed 1-21-00; 8:45 am]

BILLING CODE 6360-01-P